DEPARTMENT OF HEALTH AND HUMAN SERVICES

Centers for Disease Control and Prevention

Interagency Committee on Smoking and Health: Notice of Charter Renewal

This gives notice under the Federal Advisory Committee Act (Public Law 92-463) of October 6, 1972, that the charter for the Interagency Committee on Smoking and Health (ICSH) of the Centers for Disease Control and Prevention (CDC), Department of Health and Human Services, has been renewed for a 2-year period, through March 20, 2003.

For further information, contact Linda Bailey, Executive Secretary, Interagency Committee on Smoking and Health, Centers for Disease Control Prevention, of the Department of Health and Human Services, CDC, Washington Office, m/s P-07, Washington, DC 20201, telephone 202/205-8500 or fax 202/205-8313.

The Director, Management Analysis and Services Office, has been delegated the authority to sign Federal Register notices pertaining to announcements of meetings and other committee management activities, for both the Centers for Disease Control and Prevention and the Agency for Toxic Substances and Disease Registry.

Dated: April 9, 2001.
Carolyn J. Russell,
Director, Management Analysis and Services Office, Centers for Disease Control and Prevention.

[FR Doc. 01-9154 Filed 4-12-01; 8:45 am]

BILLING CODE 4163-18-P